COMMODITY FUTURES TRADING COMMISSION

Guidelines for Ensuring and Maximizing the Quality, Objectivity, Utility, and Integrity of Information Disseminated by the Commodity Futures Trading Commission

AGENCY: Commodity Futures Trading Commission.

ACTION: Notice of availability of report.

SUMMARY: The Commodity Futures Trading Commission (CFTC or agency) in accordance with Section 515 of the Treasury and General Government Appropriations Act for Fiscal Year 2001 (Pub. L. 106-554; H.R. 5658) as implemented by the final guidelines published by the Office of Management and Budget, Executive Office of the President on September 28, 2001 (66 FR 49718) and on January 3, 2002 (67 FR 369) (and reprinted in their entirety on February 22, 2002, 67 FR 8452), “Guidelines for Ensuring and Maximizing the Quality, Objectivity, Utility, and Integrity of Information Disseminated by Federal Agencies,” has posted its report on the CFTC website, http://www.cftc.gov. This report provides the agency's information quality guidelines and explains how such guidelines will ensure and maximize the quality, objectivity, utility, and integrity of information, including statistical information, disseminated by the CFTC. The report also details the administrative mechanism that will allow affected persons to seek and obtain appropriate correction of information maintained and disseminated by the CFTC that does not comply with the OMB or agency guidelines.

FOR FURTHER INFORMATION CONTACT: Hilary E. Schultz, Chief Information Officer, Commodity Futures Trading Commission, 1155 21st Street, NW., Washington, DC 20581, email: hschultz@cftc.gov, telephone: (202) 418-5200.

Dated: September 25, 2002.
Jean A. Webb,
Secretary of the Commission.

[FR Doc. 02-25241 Filed 10-3-02; 8:45 am]

BILLING CODE 6351-01-M